DEPARTMENT OF ENERGY

Federal Energy Regulatory Commission

[CP02-404-000]

Columbia Gas Transmission Corporation; Notice of Request Under Blanket Authorization

July 19, 2002.

Take notice that on July 11, 2002, Columbia Gas Transmission Corporation (Columbia), 12801 Fair Lakes Parkway, Fairfax, Virginia 22030-0146, filed in Docket No. CP02-404-000 a request pursuant to sections 157.205 and 157.216 of the Commission's Regulations under the Natural Gas Act (18 CFR 157.205 and 157.216) for authorization to abandon by removal in its entirety its delivery point to Allegheny Power, d.b.a. Mountaineer Gas Company, located in Hancock County, West Virginia, under Columbia's blanket certificate issued in Docket No. CP83-76-000, all as more fully set forth in the request. Copies of this request are on file with the Commission and are available for public inspection. This request may be viewed on the Web at http://www.ferc.gov using the “RIMS” link, select “Docket #” from the RIMS Menu and follow the instructions (please call 202-208-2222 for assistance).

Columbia proposes to abandon by removal in its entirety its point of delivery to Allegheny Power, located in Hancock County, West Virginia. Columbia states that the point of delivery is no longer needed for a dwelling on this property because the dwelling is scheduled to be demolished.

Columbia indicates that the abandonment activities will consist of removing the station in its entirety and capping the tap. Columbia asserts that the minor costs associated with the abandonment will be expensed.

Any questions regarding the prior notice request should be directed to Fredric J. George, Senior Attorney, Columbia Gas Transmission Corporation, P. O. Box 1273, Charleston, West Virginia 25315-1273, at (304) 357-2359.

Any person or the Commission's staff may, within 45 day after issuance of the instant notice by the Commission, file pursuant to Rule 214 of the Commission's Procedural Rules (18 CFR 385.214) a motion to intervene or notice of intervention and pursuant to section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to section 7 of the Natural Gas Act.

Comments, protests, and interventions may be filed electronically via the Internet in lieu of paper. See, 18 CFR 385.2001(a)(1)(iii) and the instructions on the Commission's Web site under the “e-Filing” link.

Linwood A. Watson, Jr.,
Deputy Secretary.

[FR Doc. 02-18833 Filed 7-24-02; 8:45 am]

BILLING CODE 6717-01-P